NATIONAL AERONAUTICS AND SPACE ADMINISTRATION

[Notice 02-024]

Notice of Prospective Patent License

AGENCY: National Aeronautics and Space Administration.

ACTION: Notice of prospective patent license.

SUMMARY: NASA hereby gives notice that Smart Material Corporation of 4721 White Tail Lane, Sarasota, Florida 34238, has applied for an exclusive license to practice the invention described in NASA Case No. LAR-15816-1-PCT, entitled “Piezoelectric Macro-Fiber Composite Actuator And Method for Making Same”, for which a PCT Patent Application was filed and assigned to the United States of America as represented by the Administrator of the National Aeronautics and Space Administration. Written objections to the prospective grant of a license should be sent to Langley Research Center.

DATES: Responses to this notice must be received by March 4, 2002.

FOR FURTHER INFORMATION CONTACT: Kurt G. Hammerle, Patent Attorney, NASA Langley Research Center, Mail Stop 212, Hampton, VA 23681-2199, telephone (757) 864-2470; fax (757) 864-9190.

Dated: February 8, 2002.
Robert M. Stephens,
Deputy General Counsel.

[FR Doc. 02-3685 Filed 2-14-02; 8:45 am]

BILLING CODE 7510-01-U